ELECTION ASSISTANCE COMMISSION

Meeting Notice

AGENCY: U.S. Election Assistance Commission.

ACTION: Notice of Rescheduled Public Meeting for EAC Standards Board.

DATES: Thursday, April 19, 2018, 8:30 a.m.-5:00 p.m. and Friday, April 20, 2018, 8:00-11:45 a.m. [Executive Board Sessions: Thursday, April 19, 2018, 8:30 a.m. and 7:30 p.m. (administrative business only)]

ADDRESSES: Hyatt Regency Coral Gables, 50 Alhambra Plaza, Coral Gables, FL 33134, Phone: (305) 441-1234.

FOR FURTHER INFORMATION CONTACT: Bryan Whitener, Telephone: (301) 563-3961.

SUPPLEMENTARY INFORMATION:

Purpose: EAC has rescheduled the Standards Board public meeting originally scheduled for January 25-26, 2018. The meeting was cancelled due to a lapse in federal funding appropriations that resulted in the shutdown of government operations. The cancelled meeting has been rescheduled to take place April 19-20, 2018. In accordance with the Federal Advisory Committee Act (FACA), Public Law 92-463, as amended (5 U.S.C. Appendix 2), the U.S. Election Assistance Commission (EAC) Standards Board will meet to address its responsibilities under the Help America Vote Act of 2002 (HAVA), to present its views on issues in the administration of Federal elections, formulate recommendations to the EAC, and receive updates on EAC activities.

Agenda: The Standards Board will receive an overview and updates on EAC programs and agency operations. The Standards Board will receive updates on EAC Grants. The Standards Board will receive updates on the Voluntary Voting System Guidelines (VVSG) 2.0 and on equipment certification. The Board will consider a resolution(s) on VVSG recommendations. The Board will hear a panel discussion on Elections & Disaster Recovery.

The Standards Board will conduct committee breakout sessions and hear committee reports. The Executive Board of the Standards Board may appoint Standards Board committee members and chairs, and consider other administrative matters.

Members of the public may submit relevant written statements to the Standards Board with respect to the meeting no later than 5:00 p.m. EDT on Thursday, April 12, 2018. Statements may be sent via email at facaboards@eac.gov, via standard mail addressed to the U.S. Election Assistance Commission, 1335 East West Highway, Suite 4300, Silver Spring, MD 20910, or by fax at 301-734-3108.

This meeting will be open to the public.

Bryan Whitener,
Director, National Clearinghouse on Elections, U.S. Election Assistance Commission.

[FR Doc. 2018-06965 Filed 4-4-18; 8:45 am]

BILLING CODE 6820-KF-P